DEPARTMENT OF DEFENSE

Department of the Navy

Notice To Exchange Real Property at the Philadelphia Navy Yard Annex (PNYA), Philadelphia, PA

AGENCY: Department of the Navy, DoD.

ACTION: Notice.

SUMMARY: The Navy is publishing this Notice to identify Federal real property it intends to exchange for property owned by Philadelphia Authority for Industrial Development (PAID) needed by the Navy to meet mission requirements and improve security at the Philadelphia Navy Yard Annex (PNYA), Philadelphia, PA.

FOR FURTHER INFORMATION CONTACT: Mr. Adam Provost, Naval Facilities Engineering Command Mid-Atlantic (NAVFAC MIDLANT), 9324 Virginia Avenue, Norfolk, VA 23511-3095; telephone (757) 341-1976.

SUPPLEMENTARY INFORMATION: The proposed uses are consistent and compatible with the Navy and PAID redevelopment plans respectively.

Description of the Navy property sought by PAID: Three non-contiguous parcels aggregating approximately 15.1 acres of land at PNYA.

Description of the PAID property sought by Navy: Six non-contiguous parcels consisting of approximately 23 acres.

On December 4, 2019 the Navy notified the appropriate Congressional committees of the proposed exchange pursuant to 10 U.S.C. 2869(d)(2).

Dated: April 15, 2020.
D.J. Antenucci,
Commander, Judge Advocate General's Corps, U.S. Navy, Federal Register Liaison Officer.

[FR Doc. 2020-08365 Filed 4-20-20; 8:45 am]

BILLING CODE 3810-FF-P